ENVIRONMENTAL PROTECTION AGENCY

[FRL-11411-01-ORD]

Human Studies Review Board (HSRB) Meetings for 2024

AGENCY: Environmental Protection Agency (EPA).

ACTION: Notice of public meeting.

SUMMARY: The Environmental Protection Agency (EPA), Office of Research and Development (ORD), gives notice of the upcoming 2024 public meetings of the Human Studies Review Board (HSRB). The HSRB provides advice, information, and recommendations on issues related to scientific and ethical aspects of third-party human subjects' research that are submitted to the Office of Pesticide Programs (OPP), in the Office of Chemical Safety and Pollution Prevention (OCSPP), to be used for regulatory purposes. EPA is announcing this meeting with less than 15 calendar days public notice.

DATES: Four three-day virtual public meetings will be held on:

1. January 9-11, 2024; and

2. April 10-12, 2024; and

3. July 9-11, 2024; and

4. October 9-11, 2024.

Meetings will be held each day from 1 p.m. to 5 p.m. eastern time. For each meeting, separate subsequent follow-up one-day meetings are planned for the HSRB to finalize reports from the primary three-day meetings listed above. These meetings will be held from 1 p.m. to 5 p.m. eastern time on the following dates: February 14, 2024; May 15, 2024; August 21, 2024; and November 6, 2024.

ADDRESSES: These meetings are open to the public and will be conducted entirely virtually and by telephone. For detailed access information and meeting materials please visit the HSRB website: https://www.epa.gov/osa/human-studies-review-board.

FOR FURTHER INFORMATION CONTACT: Any member of the public who wishes to receive further information should contact the HSRB Designated Federal Official (DFO), Tom Tracy, via phone/voicemail at: 919-541-4334; or via email at: tracy.tom@epa.gov.

SUPPLEMENTARY INFORMATION:

Background

The HSRB is a Federal advisory committee operating in accordance with the Federal Advisory Committee Act 5 U.S.C. app. 2 section 9. The HSRB provides advice, information, and recommendations on issues related to scientific and ethical aspects of third-party human subjects research that are submitted to the Office of Pesticide Programs (OPP), in the Office of Chemical Safety and Pollution Prevention (OCSPP), to be used for regulatory purposes.

Meeting access: These meetings will be open to the public. The full agenda with access information and meeting materials will be available prior to the start of each meeting at the HSRB website: https://www.epa.gov/osa/human-studies-review-board. For questions on document availability, or if you do not have access to the internet, consult with the DFO, Tom Tracy listed under FOR FURTHER INFORMATION CONTACT.

Special accommodations. For information on access or services for individuals with disabilities, or to request accommodation of a disability, please contact the DFO listed under FOR FURTHER INFORMATION CONTACT at least 10 days prior to each meeting to give EPA as much time as possible to process your request.

Public Participation

The HSRB encourages the public's input. You may participate in these meetings by following the instructions in this section.

1. Oral comments. To pre-register to make oral comments, please contact the DFO, Tom Tracy, listed under FOR FURTHER INFORMATION CONTACT. Requests to present oral comments during the meetings will be accepted up to noon eastern time, seven calendar days prior to each meeting date. To the extent that time permits, interested persons who have not pre-registered may be permitted by the HSRB Chair to present oral comments during the meetings at the designated time on the agenda. Oral comments before the HSRB are generally limited to five minutes per individual or organization. If additional time is available, further public comments may be possible.

2. Written comments. For the Board to have the best opportunity to review and consider your comments as it deliberates, you should submit your comments prior to the meetings via email by noon eastern time, seven calendar days prior to each meeting date. If you submit comments after these dates, those comments will be provided to the HSRB members, but you should recognize that the HSRB members may not have adequate time to consider your comments prior to their discussion. You should submit your comments to the DFO, Tom Tracy, listed under FOR FURTHER INFORMATION CONTACT. There is no limit on the length of written comments for consideration by the HSRB.

Topics for discussion. The agenda and meeting materials will be available seven calendar days in advance of each meeting at https://www.epa.gov/osa/human-studies-review-board.

Meeting minutes and final reports. Minutes of these meetings, summarizing the topics discussed and recommendations made by the HSRB, will be released within 90 calendar days of each meeting. These minutes will be available at https://www.epa.gov/osa/human-studies-review-board. In addition, information regarding the HSRB's Final Reports, will be found at https://www.epa.gov/osa/human-studies-review-board or can be requested from Tom Tracy listed under FOR FURTHER INFORMATION CONTACT.

Mary Ross,
Director, Office of Science Advisor, Policy and Engagement.

[FR Doc. 2024-00206 Filed 1-5-24; 8:45 am]

BILLING CODE 6560-50-P